FEDERAL ELECTION COMMISSION

Sunshine Act Notices

AGENCY: Federal Election Commission.

Date and Time: Thursday, September 11, 2008 at 10 a.m.

Place: 999 E Street, NW., Washington, DC (ninth floor).

Status: This meeting will be open to the public.

Items To Be Discussed: Correction and Approval of Minutes.

Advisory Opinion 2008-08: Mr. Jonathan Zucker. Management and Administrative Matters.

Person To Contact for Information: Robert Biersack, Press Officer, Telephone: (202) 694-1220.

Individuals who plan to attend and require special assistance, such as sign language interpretation or other reasonable accommodations, should contact Mary Dove, Commission Secretary, at (202) 694-1040, at least 72 hours prior to the hearing date.

Darlene Harris,
Deputy Secretary of the Commission.

[FR Doc. E8-20911 Filed 9-9-08; 8:45 am]

BILLING CODE 6715-01-M